DEPARTMENT OF AGRICULTURE

Agricultural Marketing Service

7 CFR Part 52

[Document Number AMS-FV-14-0088, SC-19-328]

United States Standards for Grades of Processed Vegetables

AGENCY: Agricultural Marketing Service, USDA.

ACTION: Final notice.

SUMMARY: The Agricultural Marketing Service (AMS) of the Department of Agriculture (USDA) is revising the U.S. Standards for Grades of Canned Lima Beans, U.S. Standards for Grades of Canned Mushrooms, U.S. Standards for Grades of Pickles, and U.S. Standards for Grades of Green Olives. AMS is replacing the term “midget” with “petite” in the canned lima bean, canned mushroom, and pickle standards, and removing “midget” completely from the green olive standards as there is an alternative term. AMS is also replacing the two-term grading system (dual nomenclature) with a single term to describe each quality level in the canned lima bean, canned mushroom, and green olive standards. Editorial changes are also being made to the grade standards that conform to recent changes made in other grade standards.

DATES: Effective May 20, 2019.

FOR FURTHER INFORMATION CONTACT: Lindsay H. Mitchell, USDA, Specialty Crops Inspection Division, 100 Riverside Parkway, Suite 101, Fredericksburg, VA 22406, by phone (540) 361-1120; fax (540) 361-1199; or, email lindsay.mitchell@ams.usda.gov. Copies of the revised U.S. Standards for Grades of Canned Lima Beans, U.S. Standards for Grades of Canned Mushrooms, U.S. Standards for Grades of Pickles, and U.S. Standards for Grades of Green Olives are available at www.ams.usda.gov/grades-standards/vegetables.

SUPPLEMENTARY INFORMATION: Section 203(c) of the Agricultural Marketing Act of 1946 (7 U.S.C. 1621-1627), as amended, directs and authorizes the Secretary of Agriculture “to develop and improve standards of quality, condition, quantity, grade, and packaging, and recommend and demonstrate such standards in order to encourage uniformity and consistency in commercial practices.”

AMS is committed to carrying out this authority in a manner that facilitates the marketing of agricultural commodities and makes copies of official standards available upon request. The U.S. Standards for Grades of Fruits and Vegetables that no longer appear in the Code of Federal Regulations are maintained by AMS at: http://www.ams.usda.gov/grades-standards. AMS is proposing revisions to these U.S. Standards for Grades using the procedures that appear in part 36 of Title 7 of the Code of Federal Regulations (7 CFR part 36).

Background

AMS continually reviews all fruit and vegetable grade standards to ensure their usefulness to the industry, modernize language, and remove duplicative terminology. On May 13, 2013, AMS received a petition from the Little People of America stating they “are trying to raise awareness around and eliminate the use of the word midget.” The petition further stated, “Though the use of the word midget by the USDA when classifying certain food products is benign, Little People of America, and the dwarfism community, hopes that the USDA would consider phasing out the term midget.”

AMS determined that six grade standards contained the term “midget”—U.S. Standards for Grades of Canned Lima Beans, U.S. Standards for Grades of Canned Mushrooms, U.S. Standards for Grades of Pickles, U.S. Standards for Grades of Green Olives, U.S. Standards for Grades of Processed Raisins, and U.S. Standards for Grades of Shelled Pecans. The shelled pecans and processed raisins standards were addressed in two separate rules because additional changes were being made to those standards.

In addition to replacing “midget” with “petite” or removing “midget,” AMS is also removing dual nomenclature in U.S. Standards for Grades of Canned Lima Beans, U.S. Standards for Grades of Canned Mushrooms, and U.S. Standards for Grades of Green Olives. More recently developed standards use a single term, such as “U.S. Grade A” or “U.S. Grade B,” to describe each level of quality within a grade standard. Older grade standards used dual nomenclature, such as “U.S. Grade A or U.S. Fancy,” “U.S. Grade B or U.S. Extra Standard,” or “U.S. Grade B or U.S. Choice,” and “U.S. Grade C or U.S. Standard,” to describe the same level of quality. The terms “U.S. Fancy,” “U.S. Extra Standard,” “U.S. Choice,” and “U.S. Standard” will be removed and the terms “U.S. Grade A,” “U.S. Grade B,” and “U.S. Grade C” will be used exclusively.

Finally, AMS is making editorial changes to these grade standards to update the name of a table to better reflect its content, a grade designation in a scoresheet to align with language used throughout the standards, the Code of Federal Regulations (CFR) references where applicable, and to remove obsolete addresses for viewing or obtaining color standards. Information on obtaining color standards is available in the Fresh and Processed Equipment Catalog on the AMS website at https://www.ams.usda.gov/grades-standards/how-purchase-equipment-and-visual-aids. These revisions will result in a consistent format across grade standards (75 FR 43141). The following table summarizes the changes made by AMS:

U.S. standards for grades of | Effective date | Remove or replace “Midget” | Other proposed revisions
Canned Lima Beans | 3/20/60 | Replace with “Petite” in Table II in Sizes of canned lima beans section | Change level of quality designations to single terms in the Grades of canned lima beans and Color sections.
|  |  | Correct CFR citation for standard of identity to 21 CFR 155.200 in the Identity section.
|  |  | Replace Processed Products information and address with “USDA Headquarters in Washington, DC” in the General section.
Canned Mushrooms | 4/7/62 | Replace with “petite” in the Sizes of canned mushrooms in the styles of whole and buttons section | Change level of quality designations to single terms in the Grades of canned mushrooms section. Correct CFR citation for standard of identity to 21 CFR 155.200 in the Product description section.
Green Olives | 9/8/67 | Remove from Table I in the Sizes of whole style green olives section | Change level of quality designations to single terms in the Grades of green olives and Uniformity of size sections and Tables IV and V in the Absence of defects section.
|  |  | Change “D” to “Sstd” in the Score sheet for green olives section.
Pickles | 4/22/91 | Replace with “Petite” in Table II in the Sizes of whole pickles section and Table VI in the Requirements for grade section | Change the title of Table III from “Recommended Pickle Ingredients All Styles Except Relish” to “Recommended Minimum Quantity of Pickle Ingredients All Styles Except Relish.”

The revisions provide a common language for trade and better reflect the current marketing of fruits and vegetables.

Comments

On August 13, 2018, AMS published a notice in the Federal Register (83 FR 39917) soliciting comments on replacing or removing the term “midget” from each of the grade standards identified in this document, as well as replacing the two-term grading system with a single term to describe each quality level in U.S. Standards for Grades of Canned Lima Beans, U.S. Standards for Grades of Canned Mushrooms, and U.S. Standards for Grades of Green Olives. Nine comments were received from the general public by the end of the public comment period on October 12, 2018.

One comment favored replacing or removing the term “midget,” but supported using “extra small” instead of “petite” for pickles since the other sizes are small, medium, large, and extra-large. The term “petite” was proposed by the industry because there are three lesser sizes before the “small” size designation: midget, small gherkin, and large gherkin. AMS is revising the standard for pickles with the term “petite.” One comment favored removing “midget” but did not support addressing dual nomenclature in this notice. AMS will address dual nomenclature at the same time “midget” is replaced or removed since these are minor non-controversial changes that will update the standards to more accurately represent today's marketing practices and addressing both is more efficient than undertaking separate rulemakings on each issue. One comment was outside the scope of this revision to U.S. grade standards. The remaining six comments favored replacing or removing the term “midget” in the grade standards.

Based on the information gathered, AMS is replacing or removing “midget,” removing dual nomenclature, and making editorial changes to the aforementioned U.S. Standards for Grades. These revisions bring the grade standards in line with other recently amended standards and current terminology, and update the standards to more accurately represent today's marketing practices.

Authority: 7 U.S.C. 1621-1627.

Dated: April 16, 2019.
Bruce Summers,
Administrator, Agricultural Marketing Service.

[FR Doc. 2019-07899 Filed 4-18-19; 8:45 am]

BILLING CODE 3410-02-P